DEPARTMENT OF COMMERCE

International Trade Administration

[A-570-504]

Petroleum Wax Candles from the People's Republic of China: Notice of Extension of Time Limit for Final Results of the Antidumping New Shipper Review

AGENCY: Import Administration, International Trade Administration, Department of Commerce.

DATES: April 18, 2002.

SUMMARY: The Department of Commerce (the Department) is extending the time limit for the final determination of the new shipper review on petroleum wax candles from the People's Republic of China. This review covers the period August 1, 2000 through January 31, 2001. The extension is made pursuant to section 751(a)(2)(B)(iv) of the Tariff Act of 1930, as amended by the Uruguay Round Agreements Act (hereinafter, “the Act”).

FOR FURTHER INFORMATION CONTACT: Javier Barrientos, Office of AD/CVD Enforcement VII, Import Administration, International Trade Administration, U.S. Department of Commerce, 14th Street and Constitution Avenue, N.W., Washington, D.C. 20230, telephone (202) 482-2243.

SUPPLEMENTARY INFORMATION:

Applicable Statute And Regulations:

Unless otherwise indicated, all citations to the statute are references to the Tariff Act of 1930, as amended.

Extension Of Time Limit Of Final Results:

Under section 751(a)(2)(B)(iv) of the Act, the Department may extend the deadline for completion of a new shipper review if it determines that it is not practicable to complete the review within the statutory time limit of 90 days after issuance of the preliminary determination. In the instant case, the Department has determined that it is not practicable to complete the review within the statutory time limit due to certain complex issues relating to Shanghai New Star Import/Export Co., Ltd. and Peak Candle's sales valuation, surrogate values and factors of production.

Because it is not practicable to complete this review within the time limits mandated by the Act (90 days after the date the preliminary determination is issued), in accordance with Section 751(a)(2)(B)(iv) of the Act, the Department is extending the time limit for the final determination an additional 45 days, to no later than May 30, 2002.

This notice is issued and published in accordance with section 751(a)(2)(B)(iv) of the Act and section 351.214(i)(2) of the Department's Regulations.

Dated: April 12, 2002
Joseph A. Spetrini,
Deputy Assistant Secretary for Import Administration, Group III.

[FR Doc. 02-9510 Filed 4-17-02; 8:45 am]

BILLING CODE 3510-DS-S